OFFICE OF THE UNITED STATES TRADE REPRESENTATIVE

[Docket No. WTO/DS404]

WTO Dispute Settlement Proceeding Regarding United States—Anti-Dumping Measures on Certain Shrimp From Viet Nam

AGENCY: Office of the United States Trade Representative.

ACTION: Notice; request for comments.

SUMMARY: The Office of the United States Trade Representative (“USTR”) is providing notice that on February 1, 2010, the Socialist Republic of Vietnam (“Vietnam”) requested consultations with the United States under the Marrakesh Agreement Establishing the World Trade Organization (“WTO Agreement”) concerning a number of antidumping administrative reviews and new shipper reviews conducted by the Department of Commerce on imports of certain frozen warmwater shrimp from Vietnam (Investigation A-552-801), and various U.S. laws, regulations, administrative procedures, practices, and methodologies. That request may be found at http://www.wto.org contained in a document designated as WT/DS404/1. USTR invites written comments from the public concerning the issues raised in this dispute.

DATES: Although USTR will accept any comments received during the course of the dispute settlement proceedings, comments should be submitted on or before March 15, 2010 to be assured of timely consideration by USTR.

ADDRESSES: Public comments should be submitted electronically to http://www.regulations.gov, docket number USTR-2010-0008. If you are unable to submit comments using http://www.regulations.gov, please contact Sandy McKinzy at (202) 395-9483 to arrange for an alternative method of transmission. If (as explained below) the comments contain confidential information, then the comments should be submitted by fax only to Sandy McKinzy at (202) 395-3640.

FOR FURTHER INFORMATION CONTACT: J. Daniel Stirk, Associate General Counsel, Office of the United States Trade Representative, 600 17th Street, NW., Washington, DC 20508, (202) 395-9617.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by Vietnam

On February 1, 2010, Vietnam requested consultations regarding a number of antidumping administrative reviews and new shipper reviews conducted by the Department of Commerce on certain frozen warmwater shrimp from Vietnam, referring in particular to the use of what it describes as “zeroing” in those reviews. Vietnam challenges the determinations by the Department of Commerce in (1) Certain Frozen Warmwater Shrimp From the Socialist Republic of Vietnam: Final Results of the First Antidumping Duty Administrative Review, 72 FR 52,052 (September 12, 2007), as well as any assessment instructions and cash deposit requirements issued pursuant thereto; (2) Certain Frozen Warmwater Shrimp From the Socialist Republic of Vietnam: Final Results and Final Partial Recission of Antidumping Duty Administrative Review, 73 FR 52,273 (September 9, 2008), as well as any assessment instructions and cash deposit requirements issued pursuant thereto; (3) Certain Frozen Warmwater Shrimp From the Socialist Republic of Vietnam: Final Results of the Second New Shipper Review, 74 FR 24,796 (May 26, 2009), as well as any assessment instructions and cash deposit requirements issued pursuant thereto; (4) Certain Frozen Warmwater Shrimp From the Socialist Republic of Vietnam: Final Results and Final Partial Recission of Antidumping Duty Administrative Review, 74 FR 47,191 (September 15, 2009), as well as any assessment instructions and cash deposit requirements issued pursuant thereto; (5) preliminary and final results of any administrative reviews or other reviews of Certain Frozen Warmwater Shrimp from the Socialist Republic of Vietnam published in the Federal Register after the date of the request for consultations, including reviews under Section 751(c) of the Tariff Act of 1930, as well as any assessment instructions and cash deposit requirements issued pursuant thereto; (6) any changes in the final results of any administrative review of Certain Frozen Warmwater Shrimp From the Socialist Republic of Vietnam issued pursuant to a remand from the U.S. Court of International Trade, as well as any opinion of the Court related to the remand results, and any assessment instructions and cash deposit requirements issued pursuant thereto; and (7) any actions taken by U.S. Customs and Border Protection to collect definitive antidumping duties at duty assessment rates established in the administrative reviews identified above, including through the issuance of liquidation instructions and notices. Vietnam also challenges various U.S. laws, regulations, administrative procedures, practices, and methodologies, including (1) the Tariff Act of 1930, as amended, in particular sections 736, 751, 771(35)(A) and (B), and 777A(c) and (d) (19 U.S.C. 1673e, 1675, 1677(35)(A) and (B), and 1677f(c) and (d)); (2) the Statement of Administrative Action accompanying the Uruguay Round Agreements Act, H.R. Doc. No. 103-316 (1994), reprinted in 1994 U.S.C.C.A.N. 4040; (3) Department of Commerce regulations set forth in part 351 of Title 19 of the Code of Federal Regulations, in particular sections 351.212(b) and 351.414(c) and (e); (4) the Import Administration Antidumping Manual (1997 ed.), including the computer programs referenced therein; and (5) the general procedures and methodology employed by the United States to determine dumping margins in administrative reviews, whereby the Department of Commerce, in comparing weighted average normal value with the transaction price of individual export transactions, treats as zero negative intermediate comparison results (i.e., situations in which the individual export price is greater than the weighted average normal value), which methodology Vietnam asserts is commonly referred to as “simple zeroing” and/or the U.S. “zeroing procedures.”

Vietnam alleges that these laws, regulations, administrative procedures, practices, and methodologies are, as such and as applied in the determinations by the Department of Commerce and actions by U.S. Customs and Border Protection in the shrimp administrative reviews and new shipper reviews, inconsistent with Articles I, II, VI:1, and VI:2 of the General Agreement on Tariffs and Trade 1994; Articles 1, 2.1, 2.4, 2.4.2, 6.8, 6.10, 9.1, 9.3, 9.4, 11.2, 11.3, 18.1, and 18.4, and Annex II of the Agreement on Implementation of Article VI of the General Agreement on Tariffs and Trade 1994 (the Anti-Dumping Agreement); Article XVI:4 of the WTO Agreement; and Vietnam's Protocol of Accession to the WTO.

Vietnam alleges that the United States acted inconsistently with the WTO Agreement obligations identified above by applying so-called “zeroing” in the determination of the margins of dumping in the reviews identified above, by repeatedly and consistently failing to provide most Vietnamese respondents seeking a review an opportunity to demonstrate the absence of dumping by being permitted to participate in a review, and by requiring companies to demonstrate their independence from government control and applying an adverse facts available rate to companies failing to do so in all reviews.

Public Comment: Requirements for Submissions

Interested persons are invited to submit written comments concerning the issues raised in this dispute. Persons may submit public comments electronically to http://www.regulations.gov docket number USTR-2010-0008. If you are unable to submit comments using http://www.regulations.gov, please contact Sandy McKinzy at (202) 395-9483 to arrange for an alternative method of transmission.

To submit comments via http://www.regulations.gov, enter docket number USTR-2010-0008 on the home page and click “search.” The site will provide a search-results page listing all documents associated with this docket. Find a reference to this notice by selecting “Notice” under “Document Type” on the left side of the search results page, and click on the link entitled “Submit a Comment.” (For further information on using the http://www.regulations.gov Web site, please consult the resources provided on the Web site by clicking on the “Help” link at the top of the home page.)

The http://www.regulations.gov Web site provides the option of providing comments by filling in a “Type Comment and Upload File” field, or by attaching a document. It is expected that most comments will be provided in an attached document. If a document is attached, it is necessary and sufficient to type “See attached” in the “Type Comment and Upload File” field.

A person requesting that information contained in a comment submitted by that person be treated as business confidential information must certify that such information is business confidential and would not customarily be released to the public by the submitter. Business confidential information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax to Sandy McKinzy at (202) 395-3640. A non-confidential summary of the confidential information must be submitted to http://www.regulations.gov. The non-confidential summary will be placed in the docket and open to public inspection.

USTR will maintain a docket on this dispute settlement proceeding accessible to the public. The public file will include non-confidential comments received by USTR from the public with respect to the dispute; if a dispute settlement panel is convened or in the event of an appeal from such a panel, the U.S. submissions, any non-confidential submissions, or non-confidential summaries of submissions, received from other participants in the dispute; the report of the panel; and, if applicable, the report of the Appellate Body.

Comments will be placed in the docket and open to public inspection pursuant to 15 CFR 2006.13, except confidential business information exempt from public inspection in accordance with 15 CFR 2006.15 or information determined by USTR to be confidential in accordance with 19 U.S.C. 2155(g)(2). Comments open to public inspection may be viewed on the http://www.regulations.gov Web site.

Steven F. Fabry,
Acting Assistant United States Trade Representative for Monitoring and Enforcement.

[FR Doc. 2010-3551 Filed 2-22-10; 8:45 am]

BILLING CODE 3190-W0-P